DEPARTMENT OF ENERGY

Federal Energy Regulatory Commission

[Project No. 2307-078]

Alaska Electric Light & Power Company; Notice of Application Ready for Environmental Analysis and Soliciting Comments, Recommendations, Terms and Conditions, and Prescriptions

Take notice that the following hydroelectric application has been filed with the Commission and is available for public inspection.

a. Type of Application: New license.

b. Project No.: 2307-078.

c. Date filed: August 31, 2016.

d. Applicant: Alaska Electric Power & Light Company.

e. Name of Project: Salmon and Annex Creek Hydroelectric Project.

f. Location: On Salmon Creek and Annex Creek in the City and Borough of Juneau, Alaska. The project occupies approximately 648.45 acres of federal lands located in the Tongass National Forest administered by the US Forest Service and operates under an existing license issued in 1988.

g. Filed Pursuant to: Federal Power Act 16 U.S.C. 791(a)-825(r).

h. Applicant Contact: Ms. Christy Yearous, Project Manager, Alaska Electric light & Power Company, 5601 Tonsgard Ct., Juneau, AK 99801-7201; email Christy.Yearous@aelp.com

i. FERC Contact: Suzanne Novak at (202) 502-6665; or email at Suzanne.novak@ferc.gov

j. Deadline for filing comments, recommendations, terms and conditions, and prescriptions: 60 days from the issuance date of this notice; reply comments are due 105 days from the issuance date of this notice. The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2307-078. The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis.

l. The existing Salmon Creek Project consists of two developments: The Salmon Creek Development and the Annex Creek Development. The Salmon Creek Development consists of the following existing facilities: (1) The 165-acre Salmon Creek Reservoir impounded by a 648-foot-long, 186-foot-high dam, with ten 5-foot-wide spillway bays; (2) a 1,500-foot-long canal used to periodically divert water from tributary streams into Salmon Creek Reservoir; (3) a 10-foot-wide, 11-foot high intake structure with trashracks; (4) a 3-foot-diameter conduit that conveys flows from the dam to the project valvehouse located immediately downstream; (5) a 4,290-foot-long, 3.3- to -2-foot-diameter penstock that conveys flows from the valvehouse to the decommissioned Upper Powerhouse where it connects to an 11,303-foot-long, 3.5-foot-diameter penstock that narrows to a 2.5-foot-diameter immediately before entering the Lower Powerhouse; (6) the 57-foot-long, 44-foot-wide, 32-foot-high Lower Powerhouse, which contains a 6.9-megawatt (MW) impulse turbine; (7) an approximately 250-foot-long tailrace that flows underneath Egan Drive and empties into a pond adjacent to the Douglas Island Pink and Chum, Inc. hatchery; and (8) appurtenant facilities. The Annex Creek Development consists of the following existing facilities: (1) the 264-acre Upper Annex Lake, impounded by a 118-foot-long, 20-foot-high dam with a 57-foot-wide spillway that discharges flow in excess of those needed for generation into the 27-acre natural Lower Annex Lake via a 0.15-mile-long outlet stream; (2) a 61-foot-long, 6-foot-high timber saddle dam located just west of the main dam; (3) a lake tap intake on Upper Annex Lake; (4) a 1,433-foot-long power tunnel that narrows from 8 feet wide and 8 feet high at the intake to a 6.5-diameter tunnel at the project valvehouse; (5) the project valvehouse containing the penstock intake; (6) the 7,097-foot-long, 3.5-foot-diameter penstock that narrows to a 2.8-foot-diameter before it bifurcates at the powerhouse to provide flows to two impulse turbine units with a total installed capacity of 3.675 MW; (7) the 67-foot-long, 48-foot-wide, 40-foot-high powerhouse; (8) a tailrace that discharges flows over a weir into Taku Inlet; (9) a 12.5-mile-long, 23-kilovolt (kV) transmission line that conveys power to the Than substation; and (10) appurtenant facilities. The project currently operates to provide base load generation with an estimated annual output of 53.8 gigawatt-hours. No changes to project operation or facilities are proposed.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above. All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms, and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010. You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

o. Public notice of the filing of the initial development application, which has already been given, established the due date for filing competing applications or notices of intent. Under the Commission's regulations, any competing development application must be filed in response to and in compliance with public notice of the initial development application. No competing applications or notices of intent may be filed in response to this notice.

Dated: April 18, 2017.
Kimberly D. Bose,
Secretary.

[FR Doc. 2017-08266 Filed 4-24-17; 8:45 am]

BILLING CODE 6717-01-P